DEPARTMENT OF COMMERCE

International Trade Administration

[A-580-844]

Steel Concrete Reinforcing Bar From The Republic of Korea: Final Results of Antidumping Duty Administrative Review

AGENCY: Import Administration, International Trade Administration, Department of Commerce.

ACTION: Notice of final results of antidumping duty administrative review.

SUMMARY: On October 7, 2003, the Department of Commerce (the Department) published the preliminary results of the administrative review of the antidumping duty order on steel concrete reinforcing bar (rebar) from the Republic of Korea (Korea). The review covers rebar exported to the United States by Dongkuk Steel Mill Co., Ltd. (DSM) and Korea Iron and Steel Co., Ltd. (KISCO), which have been collapsed into a single entity for purposes of this administrative review, during the period from January 30, 2001, through August 31, 2002. After analyzing the comments received, we have made certain changes in the margin calculation. The final weighted-average dumping margin for the reviewed entity is listed below in the section entitled “Final Results of Review.”

EFFECTIVE DATE: April 13, 2004.

FOR FURTHER INFORMATION CONTACT: Richard Johns or Mark Manning, AD/CVD Enforcement, Office IV, Group II, Import Administration, International Trade Administration, U.S. Department of Commerce, 14th and Constitution Avenue, NW., Washington, DC 20230; telephone: (202) 482-2305 or (202) 482-5253, respectively.

SUPPLEMENTARY INFORMATION:

Background

On October 7, 2003, the Department published in the Federal Register the preliminary results of the administrative review of the antidumping duty order on rebar from Korea. See Steel Concrete Reinforcing Bar from The Republic of Korea: Notice of Preliminary Results of Antidumping Duty Administrative Review, 68 FR 57883 (October 7, 2003) (Preliminary Results). During the period October through December 2003, the Department received KISCO's responses to sections A-D of the Department's questionnaire, which was issued on September 15, 2003, as a result of the Department's decision to collapse DSM and KISCO. See Memorandum from Thomas F. Futtner, Acting Office Director, to Holly A. Kuga, Acting Deputy Assistant Secretary, “Decision Memorandum: Whether to Collapse Dongkuk Steel Mill Co., Ltd., and Korea Iron and Steel Co., Ltd., Into a Single Entity,” dated September 12, 2003. In January 2004, the Department conducted verification of the sales and cost of production (COP) information reported by the collapsed entity, DSM/KISCO.

In response to the Department's invitation to comment on the Preliminary Results of this review, DSM/KISCO filed a case brief on March 3, 2004. The petitioner ¹ also filed a case brief on March 3, 2004. On March 10, 2004, DSM/KISCO and the petitioner filed rebuttal briefs.

¹ The petitioner in this proceeding is the Rebar Trade Action Coalition and its individual members (collectively, the petitioner).

The Department has conducted this administrative review in accordance with section 751 of the Tariff Act of 1930, as amended (the Act).

Scope of the Review

The products covered by the antidumping duty order are all rebar sold in straight lengths, currently classifiable in the Harmonized Tariff Schedule of the United States (HTSUS) under item number 7214.20.00 or any other tariff item number. Specifically excluded are plain rounds (i.e., non-deformed or smooth bars) and rebar that has been further processed through bending or coating. Although the HTSUS subheadings are provided for convenience and customs purposes, the written description of the merchandise covered by the order is dispositive.

Period of Review

The period of review (POR) is from January 30, 2001 through August 31, 2002.

Verification

As provided in section 782(I) of the Act, we verified the information submitted by the respondent for use in our final results. We used standard verification procedures including examination of relevant accounting and production records, and original source documents provided by the DSM/KISCO.

Analysis of Comments Received

All issues raised in the case brief submitted by DSM/KISCO and the petitioner are contained in the “Issues and Decision Memorandum” from Holly A. Kuga, Acting Deputy Assistant Secretary, to James J. Jochum, Assistant Secretary for Import Administration (Issues and Decision Memorandum). The Issues and Decision Memorandum is dated concurrently with this notice and hereby adopted by this notice. A list of the issues which the parties have raised is attached to this notice as an appendix. Parties can find a complete discussion of all issues raised in this administrative review in the Issues and Decision Memorandum which is on file in the Central Records Unit, room B-099 of the main Department of Commerce building. In addition, a complete version of the Issues and Decision Memorandum can be accessed directly on the Web at “http://ia.ita.doc.gov”. The paper copy and electronic version of the Issues and Decision Memorandum are identical in content.

Changes Since the Preliminary Results

Based on our analysis of comments received, we have made certain changes in the margin calculation. These changes are discussed in the relevant sections of the Issues and Decision Memorandum. The Department issued the antidumping questionnaire to KISCO approximately two weeks before the fully extended deadline for the preliminary results. Therefore, KISCO's sales and costs of production data were not available for inclusion in the preliminary results. KISCO submitted its sales and COP data after the preliminary results, and we have included this information in our final results of review. Furthermore, we have corrected a programming error contained in our preliminary results regarding the calculation of the constructed export price (CEP) offset. See Issues and Decision Memorandum. Lastly, we have made corrections to the reported information pursuant to minor errors found during verification. See Issues and Decision Memorandum.

Final Results of Review

We determine that the following weighted-average percentage margin exists for DSM/KISCO for the period January 30, 2001, through August 31, 2002.

Exporter/manufacturer | Margin (percent)
Dongkuk Steel Mill Co., Ltd./ | 11.74
Korea Iron and Steel Co., Ltd. |

Assessment

The Department shall determine, and U.S. Customs and Border Protection (CBP) shall assess, antidumping duties on all appropriate entries. In accordance with 19 CFR § 351.212(b)(1), we have calculated importer-specific assessment rates for merchandise subject to this review. Since DSM/KISCO reported the entered values and importer for its sales, we have calculated an importer-specific ad valorem duty assessment rate based on the ratio of the total amount of dumping margins calculated for the examined sales to the entered value of sales used to calculate those duties. If the importer-specific assessment rate is above de minimis (i.e., greater than 0.50 percent ad valorem), we will instruct CBP to assess the importer-specific rate uniformly on all entries made during the POR. The Department will issue appropriate assessment instructions directly to the CBP within 15 days of publication of the final results of review.

Cash Deposit Requirements

The following deposit requirements will be effective upon publication of this notice of final results of administrative review for all shipments of rebar from Korea entered, or withdrawn from warehouse, for consumption on or after the date of publication of this notice, as provided by section 751(a)(1) of the Act: (1) The cash deposit rate for DSM and KISCO will be the rate shown above; (2) for previously reviewed or investigated companies not listed above, the cash deposit rate will continue to be the company-specific rate published for the most recent period; (3) if the exporter is not a firm covered in this review, a prior review, or the original less-than-fair-value (LTFV) investigation, but the manufacturer is, the cash deposit rate will be the rate established for the most recent period for the manufacturer of the merchandise; and (4) if neither the exporter nor the manufacturer is a firm covered by any segment of this proceeding, the cash deposit rate will continue to be 22.89 percent, which is the “all others” rate established in the LTFV investigation. These deposit requirements, when imposed, shall remain in effect until publication of the final results of the next administrative review.

Notification to Importers

This notice also serves as a final reminder to importers of their responsibility under 19 CFR § 351.402(f)(2) to file a certificate regarding the reimbursement of antidumping duties prior to liquidation of the relevant entries during this review period. Failure to comply with this requirement could result in the Secretary's presumption that reimbursement of the antidumping duties occurred and the subsequent assessment of double antidumping duties.

Administrative Protective Orders

This notice also serves as the only reminder to parties subject to administrative protective orders (APOs) of their responsibility concerning the return or destruction of proprietary information disclosed under APO in accordance with 19 CFR § 351.305. Timely written notification of the return/destruction of APO materials or conversion to judicial protective order is hereby requested. Failure to comply with the regulations and terms of an APO is a violation which is subject to sanction.

We are issuing and publishing this determination and notice in accordance with sections 751(a)(1) and 777(i)(1) of the Act.

Dated: April 5, 2004.
Joseph A. Spetrini,
Acting Assistant Secretary for Import Administration.

Appendix 1—Issues in Decision Memorandum

Comments and Responses

1. Whether Dongkuk Steel Mill Co., Ltd. (DSM), Korea Iron and Steel Co., Ltd. (KISCO), and Dongkuk Industries Co., Ltd. (DKI) are affiliated.

2. Whether the Department should “collapse” DSM and KISCO.

3. Whether the Department should classify DSM's U.S. sales as weldable rebar.

4. Whether the Department should correct a clerical error in the preliminary margin program to allow for the calculation of the CEP offset.

5. Whether the Department should reverse its decision and reject DSM's sales, which are a major and significant correction to the sales listing.

6. Whether DSM/KISCO's August 11, 2003 letter supports the acceptance of new factual information.

7. Whether the Department can retroactively confer timely status.

[FR Doc. 04-8375 Filed 4-12-04; 8:45 am]

BILLING CODE 3510-DS-P